DEPARTMENT OF TRANSPORTATION

Federal Aviation Administration

14 CFR Part 97

[Docket No. 30907; Amdt. No. 3542]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 5, 2013. The compliance date for each SIAP, associated Takeoff Minimums, and ODP is specified in the amendatory provisions.

The incorporation by reference of certain publications listed in the regulations is approved by the Director of the Federal Register as of July 5, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on June 21, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 25 July 2013

Cairo, IL, Cairo Rgnl, RNAV (GPS) RWY 14, Orig

Chicago/West Chicago, IL, Dupage, RNAV (GPS) RWY 2L, Orig-B

Wichita, KS, Beech Factory, RNAV (GPS) RWY 1, Amdt 1

Wichita, KS, Beech Factory, RNAV (GPS) RWY 19, Amdt 1

Wichita, KS, Beech Factory, VOR-B, Amdt 4

Wichita, KS, Beech Factory, VOR/DME RNAV RWY 1, Orig-A, CANCELED

Wichita, KS, Beech Factory, VOR/DME RNAV RWY 19, Orig-A, CANCELED

Detroit, MI, Detroit Metropolitan Wayne County, ILS OR LOC RWY 21L, ILS RWY 21L (SA CAT I), ILS RWY 21L (SA CAT II), Amdt 11

Hillsdale, MI, Hillsdale Muni, RNAV (GPS) RWY 10, Orig

Hillsdale, MI, Hillsdale Muni, RNAV (GPS) RWY 28, Orig

Hillsdale, MI, Hillsdale Muni, Takeoff Minimums and Obstacle DP, Amdt 1

Hillsdale, MI, Hillsdale Muni, VOR-A, Amdt 8

Springfield, MO, Springfield-Branson National, ILS OR LOC RWY 14, Orig-B

Springfield, MO, Springfield-Branson National, RNAV (GPS) RWY 14, Amdt 2A

Sevierville, TN, Gatlinburg-Pigeon Forge, Takeoff Minimums and Obstacle DP, Amdt 4

Dallas-Fort Worth, TX, Dallas/Fort Worth Intl, ILS OR LOC RWY 31R, Amdt 14A

Antigo, WI, Langlade County, Takeoff Minimums and Obstacle DP, Amdt 1

Baraboo, WI, Baraboo Wisconsin Dells, LOC/DME RWY 1, Amdt 1

Baraboo, WI, Baraboo Wisconsin Dells, RNAV (GPS) RWY 1, Amdt 1

Baraboo, WI, Baraboo Wisconsin Dells, RNAV (GPS) RWY 19, Amdt 1

Baraboo, WI, Baraboo Wisconsin Dells, Takeoff Minimums and Obstacle DP, Amdt 1

Charleston, WV, Yeager, RNAV (RNP) Z RWY 5, Orig

Effective 22 August 2013

Haines, AK, Haines, Takeoff Minimums and Obstacle DP, Orig

Juneau, AK, Juneau Intl, ASORT ONE, Graphic DP

Juneau, AK, Juneau Intl, CINGA THREE, Graphic DP, CANCELED

Juneau, AK, Juneau Intl, Takeoff Minimums and Obstacle DP, Amdt 4

Sitka, AK, Sitka Rocky Gutierrez, LDA/DME RWY 11, Amdt 15

Sitka, AK, Sitka Rocky Gutierrez, VOR/DME-A, Amdt 1

Yakutat, AK, Yakutat, ILS OR LOC/DME RWY 11, Amdt 3

Yakutat, AK, Yakutat, LOC/DME BC RWY 29, Amdt 7

Yakutat, AK, Yakutat, Takeoff Minimums and Obstacle DP, Amdt 5

Yakutat, AK, Yakutat, VOR/DME RWY 2, Amdt 4, CANCELED

Yakutat, AK, Yakutat, VOR/DME RWY 11, Amdt 3

Yakutat, AK, Yakutat, VOR/DME RWY 29, Amdt 4

Marianna, AR, Marianna/Lee County-Steve Edwards Field, RNAV (GPS) RWY 18, Amdt 1

Marianna, AR, Marianna/Lee County-Steve Edwards Field, RNAV (GPS) RWY 36, Amdt 1

Marianna, AR, Marianna/Lee County-Steve Edwards Field, Takeoff Minimums and Obstacle DP, Amdt 1

Crystal River, FL, Crystal River, RNAV (GPS) RWY 9, Amdt 1

Crystal River, FL, Crystal River, RNAV (GPS) RWY 27, Amdt 1

Crystal River, FL, Crystal River, VOR/DME-A, Amdt 2, CANCELED

Campbellsville, KY, Taylor County, SDF RWY 23, Amdt 2B, CANCELED

Paducah, KY, Barkley Rgnl, RNAV (GPS) RWY 14, Orig

Paducah, KY, Barkley Rgnl, RNAV (GPS) RWY 32, Orig

Springfield, KY, Lebanon-Springfield, Takeoff Minimums and Obstacle DP, Amdt 2A

Lafayette, LA, Lafayette Rgnl, RNAV (GPS) RWY 29, Orig-A

Lafayette, LA, Lafayette Rgnl, VOR/DME RWY 11, Amdt 1E

Holland, MI, West Michigan Rgnl, ILS OR LOC/DME RWY 26, Amdt 2A

Sedalia, MO, Sedalia Rgnl, RNAV (GPS) RWY 18, Amdt 2

Sedalia, MO, Sedalia Rgnl, RNAV (GPS) RWY 36, Amdt 2

Sedalia, MO, Sedalia Rgnl, Takeoff Minimums and Obstacle DP, Amdt 1

Natchez, MS, Hardy-Anders Field Natchez-Adams County, ILS OR LOC RWY 13, Amdt 2

Natchez, MS, Hardy-Anders Field Natchez-Adams County, RNAV (GPS) RWY 13, Amdt 1

Natchez, MS, Hardy-Anders Field Natchez-Adams County, RNAV (GPS) RWY 18, Amdt 1

Natchez, MS, Hardy-Anders Field Natchez-Adams County, RNAV (GPS) RWY 31, Amdt 1

Natchez, MS, Hardy-Anders Field Natchez-Adams County, RNAV (GPS) RWY 36, Amdt 1

Natchez, MS, Hardy-Anders Field Natchez-Adams County, VOR RWY 18, Amdt 10D

Kindred, ND, Hamry Field, RNAV (GPS) RWY 11, Amdt 1

Kindred, ND, Hamry Field, RNAV (GPS) RWY 29, Amdt 1

Linton, ND, Linton Muni, RNAV (GPS) RWY 9, Orig

Linton, ND, Linton Muni, RNAV (GPS) RWY 27, Orig

Linton, ND, Linton Muni, Takeoff Minimums and Obstacle DP, Orig

Burwell, NE, Cram Field, GPS RWY 33, Orig, CANCELED

Burwell, NE, Cram Field, NDB RWY 15, Amdt 1

Burwell, NE, Cram Field, RNAV (GPS) RWY 15, Orig

Burwell, NE, Cram Field, RNAV (GPS) RWY 33, Orig

Burwell, NE, Cram Field, Takeoff Minimums and Obstacle DP, Orig

Carson City, NV, Carson, RNAV (GPS) RWY 27, Orig

Reno, NV, Reno/Tahoe Intl, RENO SIX, Graphic DP

Reno, NV, Reno/Tahoe Intl, WAGGE THREE, Graphic DP

White Plains, NY, Westchester County, ILS OR LOC RWY 34, Amdt 5

White Plains, NY, Westchester County, Takeoff Minimums and Obstacle DP, Amdt 7

Stillwater, OK, Stillwater Rgnl, RNAV (GPS) RWY 35, Amdt 1

Tulsa, OK, Tulsa Intl, RNAV (GPS) RWY 8, Amdt 2

Doylestown, PA, Doylestown, VOR/DME RWY 23, Amdt 8

Perryton, TX, Perryton Ochiltree County, RNAV (GPS) RWY 17, Orig

Perryton, TX, Perryton Ochiltree County, RNAV (GPS) RWY 35, Amdt 1

Tooele, UT, Bolinder Field-Tooele Valley, Takeoff Minimums and Obstacle DP, Amdt 3

Bellingham, WA, Bellingham Intl, ILS OR LOC RWY 16, ILS RWY 16 (SA CAT I), Amdt 7

[FR Doc. 2013-16056 Filed 7-3-13; 8:45 am]

BILLING CODE 4910-13-P